NUCLEAR REGULATORY COMMISSION

[Docket No. 50-410]

Rochester Gas and Electric Corporation; Nine Mile Point Nuclear Station, Unit No. 2; Notice of Withdrawal of Application for Approval of Indirect Transfer of Facility Operating License

The U.S. Nuclear Regulatory Commission (the Commission) was considering the issuance of an order under 10 CFR 50.80 approving the indirect transfer of Facility Operating License No. NPF-69 for Nine Mile Nuclear Station, Unit No. 2 (NMP-2), to the extent held by Rochester Gas and Electric Corporation (RG&E). The indirect transfer would have resulted from the planned acquisition of RG&E's parent company, RGS Energy Group, Inc. (RGS), by Energy East Corporation (Energy East).

On November 7, 2001, the NMP-2 license, as held by RG&E and others, was transferred to Nine Mile Point Nuclear Station, LLC, as authorized by an NRC Order dated June 22, 2001, as modified by a Supplemental Order dated October 30, 2001. By letter dated November 14, 2001, RG&E withdrew its request for NRC approval of the indirect transfer of the NMP-2 license since RG&E no longer holds the NMP-2 license. The NRC has permitted the withdrawal.

The Commission previously published a Notice of Consideration of Approval of Application Regarding Proposed Merger and Opportunity for a Hearing (66 FR 42687, dated August 14, 2001). No hearing requests or written comments were filed.

For further details with respect to this withdrawal, see RG&E's letter dated June 22, and November 14, 2001, available for public inspection at the Commission's Public Document Room (PDR), at One White Flint North, 11555 Rockville Pike (first floor), Rockville, Maryland. Publicly available records will be accessible electronically from the Agencywide Documents Access and Management System (ADAMS) Public Electronic Reading Room on the internet at the NRC Web site (http://www.nrc.gov/ADAMS/index.htm). If you do not have access to ADAMS or if there are problems accessing the documents located in ADAMS, contact the NRC PDR reference staff at 1-800-397-4209, 301-415-4737 or by e-mail to pdr@nrc.gov.

Dated at Rockville, Maryland, this 30th day of November 2001.
For the Nuclear Regulatory Commission.
Peter S. Tam,
Senior Project Manager, Section 1, Project Directorate I, Division of Licensing Project Management, Office of Nuclear Reactor Regulation.

[FR Doc. 01-30343 Filed 12-6-01; 8:45 am]

BILLING CODE 7590-01-P